DEPARTMENT OF EDUCATION

National Advisory Committee on Institutional Quality and Integrity; Notice of Meeting

AGENCY: National Advisory Committee on Institutional Quality and Integrity (NACIQI or Committee), Office of Postsecondary Education, U.S. Department of Education.

ACTION: Announcement of an open meeting.

SUMMARY: This notice sets forth the agenda, time, and instructions to access or participate in the March 24 & 25, 2026, meeting of NACIQI, and provides information to members of the public regarding the meeting, including requesting to make written or oral comments. Committee members will meet in-person. Agency representatives have the option to meet in-person or virtually, and public attendees will participate virtually. The notice of this meeting is required under 5 U.S.C. Chapter 10 (commonly known as the Federal Advisory Committee Act) and Section 114(d)(1)(B) of the Higher Education Act (HEA) of 1965, as amended.

DATES: The NACIQI meeting will be held on March 24 & 25, 2026, from 9:00 a.m. to 5:00 p.m. Eastern Time.

ADDRESSES: U.S. Department of Education, 400 Maryland Avenue SW, Barnard Auditorium, Washington, DC 20202 [Only NACIQI members, accrediting agency representatives, and Department of Education staff will participate in the meeting at this address].

FOR FURTHER INFORMATION CONTACT: George Alan Smith, Executive Director/Designated Federal Official (DFO), NACIQI, U.S. Department of Education, 400 Maryland Avenue SW, Washington, DC 20202, telephone: (202) 453-7757, or email: George.Alan.Smith@ed.gov.

SUPPLEMENTARY INFORMATION:

Statutory Authority and Function: NACIQI is established under Section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory function relating to accreditation and institutional eligibility that the Secretary of Education may prescribe by regulation.

Meeting Agenda

The purpose of the meeting is to elect a committee vice chairperson and conduct a review of applications for renewal of recognition submitted by six accrediting agencies and compliance reports submitted by four accrediting agencies.

Election of a Committee Vice Chairperson

The Chairperson will facilitate the election of a vice chairperson to serve up to three years.

Applications for Renewal of Recognition

1. American Board of Funeral Service Education. Scope of Recognition: The accreditation of institutions and programs awarding diplomas, associate degrees, and bachelor's degrees in funeral service or mortuary science, including the accreditation of distance learning courses and programs offered by these programs and institutions. Geographic Area of Accrediting Activities: Throughout the United States.

2. Association of Institutions of Jewish Studies. Scope of Recognition: The accreditation of postsecondary institutions of Jewish Studies offering educational programs leading to a certificate, associate degree, baccalaureate degree or their equivalent credential, all with at least 30% credit content in Jewish Studies or Classical Torah Studies. Geographic Area of Accrediting Activities: Throughout the United States.

3. American Speech-Language-Hearing Association. Scope of Recognition: The accreditation and preaccreditation (Accreditation Candidate) of education programs in audiology and speech-language pathology leading to the first professional or clinical degree at the master's or doctoral level, and the accreditation of these programs offered via distance education. Geographic Area of Accrediting Activities: Throughout the United States.

4. Council on Naturopathic Medical Education. Scope of Recognition: The accreditation and preaccreditation of graduate-level, four-year naturopathic medical education programs leading to the Doctor of Naturopathic Medicine (NMN) or Doctor of Naturopathy (ND), including those offered by distance education. Geographic Area of Accrediting Activities: Throughout the United States.

5. Montessori Accreditation Council for Teacher Education. Scope of Recognition: The accreditation of Montessori teacher education institutions and certificate programs including those offered via distance education. Geographic Area of Accrediting Activities: Throughout the United States.

6. National League for Nursing, Commission for Nurse Education Accreditation. Scope of Recognition: The preaccreditation and accreditation of nursing education programs, which offer a certificate, diploma, or degree at the practical/vocational, diploma, associate, baccalaureate, master's, and/or doctoral level, including those offered via distance education. This recognition extends to the Appeals Panel. Geographic Area of Accrediting Activities: Throughout the United States. Requested Scope of Recognition: The preaccreditation and accreditation of nursing education programs, which offer a certificate, diploma, or degree at the practical/vocational, diploma, associate, baccalaureate, master's, post-graduate, and/or doctoral level, including those offered via distance education. This recognition extends to the Appeals Panel. Geographic Area of Accrediting Activities: Throughout the United States.

Compliance Reports

1. Association of Advanced Rabbinical and Talmudic Schools. Scope of Recognition: The accreditation and preaccreditation (“Correspondent” and “Candidate”) of advanced rabbinical and Talmudic schools to include Associate, Baccalaureate, Master's, Doctorate, and First Rabbinic and First Talmudic degree programs. Geographic Area of Accrediting Activities: Throughout the United States. The Compliance report includes findings of noncompliance with the criteria in 34 Code of Federal Regulations (CFR) part 602 identified in the November 3, 2023, letter from the senior Department official following the July 15,2023, NACIQI meeting, available at: https://surveys.ope.ed.gov/erecognition/#/public-documents.

2. Academy of Nutrition and Dietetics, Accreditation Council for Education in Nutrition and Dietetics. Scope of Recognition: The accreditation and preaccreditation of Didactic and Coordinated Programs in Nutrition and Dietetics at both the undergraduate and graduate level, postbaccalaureate Nutrition and Dietetics Internships, and Nutrition and Dietetics Technician Programs at the associate degree level and for its accreditation of such programs offered via distance education. Geographic Area of Accrediting Activities: Throughout the United States. The compliance report includes findings of noncompliance with the criteria in 34 CFR part 602 identified in the November 3, 2023, letter from the senior Department official following the July 15, 2023, NACIQI meeting, available at https://surveys.ope.ed.gov/erecognition/#/public-documents.

3. National Association of Schools of Art and Design, Commission on Accreditation. Scope of Recognition: The accreditation of freestanding institutions and units offering art/design and art/design-related programs (both degree- and non-degree-granting), including those offered via distance education. Geographic Area of Accrediting Activities: Throughout the United States. The compliance report includes findings of noncompliance with the criteria in 34 CFR part 602 identified in the November 3, 2023, letter from the senior Department official following the July 15, 2023, NACIQI meeting, available at https://surveys.ope.ed.gov/erecognition/#/public-documents.

4. Northwest Commission on Colleges and Universities. Scope of Recognition: The accreditation and preaccreditation (“Candidacy status”) of institutions, including the accreditation of programs offered via correspondence education and distance education within these institutions. This recognition also extends to the Executive Committee. Geographic Area of Accrediting Activities: Throughout the United States. The compliance report includes findings of noncompliance with the criteria in 34 CFR part 602 identified in the November 3, 2023, letter from the senior Department official following the July 15, 2023, NACIQI meeting, available at https://surveys.ope.ed.gov/erecognition/#/public-documents.

To ensure sufficient time for all agency reviews, including NACIQI questions and discussion, the Department requests that the agencies limit their opening statements to 10 minutes (total for one or more statements), and that the agencies avoid extended discussions about agency representatives and their backgrounds. Following the brief opening statement, the agency's presentation should focus on the regulatory criteria, and in particular, responses to areas where Department staff has recommended a finding of noncompliance or substantial compliance, or where other concerns have been raised that the agency would like to address. However, the agency should expect that questions from NACIQI members may focus on other areas.

Instructions for Accessing the Meeting Registration

You may register for the meeting on your computer using the link below. After you register, you will receive a confirmation email containing personalized participation links for the meeting no later than 8:30 a.m. Eastern Standard Time on March 24, 2026.

Registration Link

https://cvent.me/Ka4grr.

Public Comment

Submission of requests to make an oral comment regarding a specific accrediting agency under review, or to make an oral comment or written statement regarding other issues within the scope of NACIQI's authority:

Opportunity to submit a written statement regarding a specific accrediting agency under review was solicited by a previous Federal Register notice published on November 06, 2024 (89 FR 88046; Document Number 2024-25785). The period for submission of such statements is now closed. Additional written statements regarding a specific accrediting agency or state approval agency under review will not be accepted at this time. However, members of the public may submit written statements regarding other issues within the scope of NACIQI's authority, as outlined under Section 114 of the HEA (20 U.S.C. 1011c).

Members of the public may make oral comments regarding a specific accrediting agency under review and/or other issues within the scope of NACIQI's authority. Oral comments may not exceed three minutes. Oral comments about an agency's recognition when a compliance report has been required by the senior Department official or the Secretary must relate to the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at https://www.ecfr.gov/current/title-34/subtitle-B/chapter-VI/part-602?toc=1.

Instructions on Requesting To Make Public Comment

To request to make oral comments of three minutes or less or to submit a written statement to NACIQI concerning its work outside of a specific accrediting agency under review during the March 24 & 25, 2026, meeting, please follow the instructions below.

Submit an email to the ThirdPartyComments@ed.gov mailbox. Please do not send material directly to NACIQI members. To be considered for the current cycle review, written statements and requests to make oral comment must be received by March 17, 2026, and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Access to Records of the Meeting: The Department will post the official report of the meeting on the NACIQI website https://sites.ed.gov/naciqi/archive-of-meetings/ within 90 days after the meeting. In addition, pursuant to 5 U.S.C. 1009, the public may request to inspect records of the meeting at 400 Maryland Avenue SW, Washington, DC, by emailing aslrecordsmanager@ed.gov or by calling (202) 453-7415 to schedule an appointment. The senior Department official's (as defined in 34 CFR 602.3 at https://www.ecfr.gov/current/title-34/subtitle-B/chapter-VI/part-602/subpart-A/section-602.3) decisions, pursuant to 34 CFR 602.36 https://www.ecfr.gov/current/title-34/subtitle-B/chapter-VI/part-602/subpart-C/subject-group-ECFR21f0283b12d15ca/section-602.36, associated with all NACIQI meetings can be found at the following website: https://surveys.ope.ed.gov/erecognition/#/public-documents.

Reasonable Accommodations: The dial-in information and weblink access to the meeting are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1964, as amended (20 U.S.C. 1011c).

David Barker,
Assistant Secretary for Postsecondary Education.

[FR Doc. 2026-03656 Filed 2-23-26; 8:45 am]

BILLING CODE 4000-01-P